DEPARTMENT OF STATE

[Public Notice: 9140]

Culturally Significant Objects Imported for Exhibition Determinations: “Power and Pathos: Bronze Sculpture of the Hellenistic World” and “Pergamon and the Art of the Hellenistic Kingdom” Exhibitions

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the objects to be included in the exhibitions “Power and Pathos: Bronze Sculpture of the Hellenistic World” and “Pergamon and the Art of the Hellenistic Kingdom,” imported from abroad for temporary exhibition within the United States, are of cultural significance. The objects are imported pursuant to loan agreements with the foreign owners or custodians. I also determine that the exhibition or display of the exhibit objects at the J. Paul Getty Museum, Los Angeles, California, from on or about July 28, 2015, until on or about November 1, 2015, at the National Gallery of Art, Washington, DC, from on or about December 6, 2015, until on or about March 20, 2016, at The Metropolitan Museum of Art, New York, New York, from on or about April 11, 2016, until on or about July 10, 2016, and at possible additional exhibitions or venues yet to be determined, is in the national interest. I have ordered that Public Notice of these Determinations be published in the Federal Register.

FOR FURTHER INFORMATION CONTACT: For further information, including lists of the exhibit objects, contact the Office of Public Diplomacy and Public Affairs in the Office of the Legal Adviser, U.S. Department of State (telephone: 202-632-6471; email: section2459@state.gov). The mailing address is U.S. Department of State, L/PD, SA-5, Suite 5H03, Washington, DC 20522-0505.

Dated: May 18, 2015.
Kelly Keiderling,
Principal Deputy Assistant Secretary, Bureau of Educational and Cultural Affairs, Department of State.

[FR Doc. 2015-12482 Filed 5-20-15; 8:45 am]

BILLING CODE 4710-05-P